DEPARTMENT OF AGRICULTURE

Animal and Plant Health Inspection Service

9 CFR Part 77

[Docket No. 02-021-3]

Tuberculosis in Cattle and Bison; State and Zone Designations; Texas: Delay of Compliance Date

AGENCY: Animal and Plant Health Inspection Service, USDA.

ACTION: Interim Rule; delay of compliance date.

SUMMARY: In an interim rule amending the bovine tuberculosis regulations to classify the State of Texas as modified accredited advanced, we delayed the date for compliance with certain identification and certification requirements in those regulations until January 1, 2003. In this action, we are further delaying the date for compliance until September 30, 2003. This action will allow affected parties additional time to make necessary preparations to comply with certain requirements.

DATES: The date for complying with certain requirements of 9 CFR 77.10 for sexually intact heifers, steers, and spayed heifers moving interstate from the State of Texas (see “Tuberculosis in Cattle and Bison; State and Zone Designations; Texas,” published in the Federal Register on June 6, 2002 [67 FR 38841-38844, Docket No. 02-021-1]) is September 30, 2003.

FOR FURTHER INFORMATION CONTACT: Dr. Joseph Van Tiem, Senior Staff Veterinarian, National Animal Health Programs, VS, APHIS, 4700 River Road Unit 43, Riverdale, MD 20737-1231; (301) 734-7716.

SUPPLEMENTARY INFORMATION:

Background

On June 6, 2002, we published an interim rule in the Federal Register (67 FR 38841-38844, Docket No. 02-021-1) amending the bovine tuberculosis regulations in 9 CFR part 77 regarding State and zone classifications by removing the split-State status of Texas and classifying the entire State as modified accredited advanced. Under the regulations in § 77.10 for certain cattle or bison originating in a modified accredited advanced State or zone, cattle or bison that are not known to be infected with or exposed to tuberculosis must meet certain identification, certification, and testing requirements prior to being moved interstate.

In the interim rule, we delayed, until January 1, 2003, the date for compliance with the following interstate movement requirements for the State of Texas, except for the former modified accredited advanced zone in El Paso and Hudspeth Counties, TX:

• The identification of sexually intact heifers moving to approved feedlots and steers and spayed heifers (§ 77.10(b));

• The identification requirements for sexually intact heifers moving to feedlots that are not approved feedlots (§ 77.10(d)); and

• Because identification is required for certification, the certification requirements for sexually intact heifers moving to unapproved feedlots (§ 77.10(d)).

We delayed compliance of these requirements for two reasons. First, the size of the cattle industry in Texas necessitated additional time to implement the identification requirements of the regulations. These additional identification requirements would require obtaining identification devices, developing procedures and processes for numbering the identification devices, and possibly developing a new State-Federal system to record the identification, if the existing State-Federal system is not adequate. Second, some cattle that had begun moving through channels prior to the change in Texas' tuberculosis status would not have been identified at their premises of origin. We agreed with the State of Texas to allow those cattle to complete their movement through normal industry channels. We would then begin enforcing certain provisions of the regulations on cattle that would be identified at their premises of origin.

The State of Texas has requested that we extend the compliance date to allow State animal health officials and other affected parties additional time to make preparations for complying with the identification and certification requirements outlined above. As noted in the interim rule, the two affected herds were depopulated, and a complete epidemiological investigation into the potential sources of the disease was conducted. We heightened our surveillance activities at slaughtering plants in Texas and in surrounding States. Also, since the fall of 2001, no affected herds have been detected in the State of Texas. Based on comments that we received on the interim rule, it appears that the tuberculosis risk associated with the movement of nonbreeding cattle through channels to slaughter is low and that identification requirements for certain cattle destined for slaughter may be unnecessary. We are currently considering proposing changes to the regulations as a result of those comments. Therefore, we are further delaying the date for compliance with the identification and certification requirements of § 77.10(b) and (d) until September 30, 2003. As stated in the interim rule, this delay in compliance does not apply to the movement of cattle from the former modified accredited advanced zone in El Paso and Hudspeth Counties, TX.

Authority: 7 U.S.C. 8301-8317; 7 CFR 2.22, 2.80, and 371.4.

Done in Washington, DC, this 20th day of December 2002.
Peter Fernandez,
Acting Administrator, Animal and Plant Health Inspection Service.

[FR Doc. 02-33001 Filed 12-30-02; 8:45 am]

BILLING CODE 3410-34-P